DEPARTMENT OF TRANSPORTATION

Federal Aviation Administration

Agency Information Collection Activities: Requests for Comments; Clearance of a Revision to an Approval of an Existing Information Collection: Operating Requirements: Commuter and On-Demand Operation

AGENCY: Federal Aviation Administration (FAA), DOT.

ACTION: Notice and request for comments.

SUMMARY: In accordance with the Paperwork Reduction Act of 1995, FAA invites public comments about our intention to request the Office of Management and Budget (OMB) approval to renew an information collection. The revision of this collection involves the amendment of current regulations, which allows a certificate holder's pilots to log second-in-command (SIC) time in operations conducted under part 135 in an airplane or operation that does not otherwise require a SIC. This revision also removes the burden for initial certification under current regulations, as that is already counted under ICR 2120-0593 (Part 119).

DATES: Written comments should be submitted by August 13, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-0039.

Title: Operating Requirements: Commuter and On-Demand Operation.

Form Numbers: N/A.

Type of Review: This is a revision of an existing information collection.

Background: The FAA is publishing the final rule Regulatory Relief, Aviation Training devices; Pilot Certification, Training, and Pilot Schools; and Other Provisions (RIN 2120-AK28; Docket No. FAA-2016-6142). In that rule, the FAA is amending § 135.99 by adding paragraph (c) to allow a certificate holder to receive approval of a second-in-command (SIC) professional development program (SIC PDP) via operations specifications (Ops Specs) to allow the certificate holder's pilots to log SIC time in operations conducted under part 135 in an airplane or operation that does not otherwise require a SIC. As explained in the rule, the FAA believes that a comprehensive SIC PDP will provide opportunities for beneficial flight experience that may not otherwise exist and also provide increased safety in operations for those flights conducted in a multicrew environment. The FAA is establishing requirements in § 135.99(c) for certificate holders, airplanes, and flightcrew members during operations conducted under an approved SIC PDP. Those changes are reflected in this information collection.

The FAA is also changing certain logging requirements to enable the logging of SIC time obtained under a SIC PDP. Those changes are reflected in a revision to information collection 2120-0021.

Respondents: Operators who currently possess an FAA approved PIC or SIC training program could revise and utilize those existing programs to qualify their pilots seeking approval to log SIC time. Those operators that do not already possess an approved PIC/SIC training program (that must include crew resource management training) would be required to submit a proposed new SIC training program for FAA approval. This would be amending an existing part 119 certificate. As of September 28, 2017 the FAA estimates that there were approximately 457 part 135 operators with single engine turbine-powered airplanes or multiengine airplanes that would qualify or actually pursue the authorization to conduct a SIC professional development program.

The FAA estimates that approximately 20 operators would be required to submit a newly developed SIC Professional Development Training Program for approval in the first year that the program is available. The FAA estimates that 50 operators will request an amendment to their existing PIC/SIC training program. This time burden is reflected in § 135.325, Training program and revision.

Frequency: As needed.

Estimated Average Burden per Response: Section 135.99(c) permits a certificate holder to seek approval of an SIC professional development program via issuance of operations specifications (Ops Specs) to allow the certificate holder's pilots to log SIC time. Under an approved SIC professional development program, pilots may log SIC time in part 135 operations conducted in multiengine airplanes and single engine turbine-powered airplanes that do not otherwise require an SIC, if those pilots: (1) Meet certification, training, and qualification requirements for pilots in part 135 operations, and (2) serve under the supervision of a part 135 PIC who meets certain experience requirements.

The FAA estimates that 20 operators will take approximately 40 hours each to develop and submit an acceptable new SIC training program. This program change will result in a burden increase of 800 hours in the first year of information collection only.

The FAA estimates that 50 operators will take approximately 20 hours each to revise and submit an acceptable SIC training program. This program change will result in a burden increase of 1000 hours.

The new or revised SIC training program will result in a burden of 1800 total hours in the first year of information collection.

In addition, the FAA has revised the burden in section 135.325 to remove the calculation of the burden for new applicants (for initial approval of training programs); this burden should not be reflected in this collection as it is already addressed in a previously approved collection (2120-0593 Certification: Air Carriers and Commercial Operators—FAR Part 119). This change is necessary to avoid double-counting the burden.

Estimated Total Annual Burden: The overall burden for part 135 was previously estimated at 1,154,674 hours. With the removal of the initial certification burden already accounted for in the part 119 statement, addition of the SIC training program development and approval burden, the total new annual reduced burden estimate is 1,146,938.6 hours. This is a reduction of 7,735.4 hours from the previous estimate.

Issued in Washington, DC, on May 30, 2018.
Barbara L. Hall,
FAA Information Collection Clearance Officer, Performance, Policy, and Records Management Branch, ASP-110.

[FR Doc. 2018-12798 Filed 6-13-18; 8:45 am]

BILLING CODE 4910-13-P